DEPARTMENT OF HEALTH AND HUMAN SERVICES

Health Care Financing Administration

HCFA-4012-N

Medicare Program; Meeting of the Advisory Panel on Medicare Education—February 15, 2000

AGENCY: Health Care Financing Administration (HCFA), HHS.

ACTION: Notice of meeting.

SUMMARY: In accordance with section 10(a) of the Federal Advisory Committee Act, this notice announces a meeting of the Advisory Panel on Medicare Education. This Committee advises and makes recommendations regarding our National Medicare Education Program as well as other programs. These programs help Medicare beneficiaries understand the expanded range of Medicare options available with the passage of the Medicare+Choice program. This meeting is open to the public, but attendance is limited to space available.

DATES: The meeting is scheduled for Tuesday, February 15, 2000, from 10 a.m. until 5:00 p.m., e.s.t. This session is open to the public in accordance with the Federal Advisory Committee Act. There will be an additional executive session from 8 a.m. to 10 a.m., not open to the public, for the processing and swearing in of the members.

ADDRESSES: The meeting will be held at the Washington Court Hotel, 525 New Jersey Avenue, NW, Washington, DC 20001, (202) 628-2100.

FOR FURTHER INFORMATION CONTACT: Susana Perry, Executive Director, Health Care Financing Administration, Center for Beneficiary Services, Partnership Development Group, 7500 Security Boulevard, S1-08-07, Baltimore, MD 21244-1850, (410) 786-1076.

SUPPLEMENTARY INFORMATION: The Advisory Panel on Medicare Education (the Panel) advises us on opportunities to enhance the effectiveness of consumer education materials serving the Medicare program. The goals of the Panel are as follows:

• Developing and implementing a national Medicare education program that describes the expanding options for selecting a health plan under Medicare.

• Enhancing the Federal government's effectiveness in informing the Medicare consumer, including the appropriate use of public-private partnerships.

• Expanding outreach to vulnerable and underserved communities, including racial and ethnic minorities; in the context of a national Medicare education program.

• Assembling an information base of “best practices” for helping consumers evaluate health plan options and building a community infrastructure for information, counseling and assistance.

The agenda is as follows:

• Appointments Process and Procedural Details (closed session).

• Introductory Remarks.

• Summary of HCFA Activities in Beneficiary Education: The National Medicare Education Program and the materials, assessments, evaluations, and research efforts that support it.

• Committee Discussion.

• Committee Work Plan and Next Steps.

• Public Comment.

Authority: 5 U.S.C. App. 2, section 10(a)(1) and (a)(2). (Catalog of Federal Domestic Assistance Program No. 93.773, Medicare—Hospital Insurance Program; and No. 93.774, Medicare—Supplementary Medical Insurance Program)

Dated: January 27, 2000.
Nancy-Ann Min DeParle,
Administrator, Health Care Financing Administration.

[FR Doc. 00-2076 Filed 1-28-00; 8:45 am]

BILLING CODE 4120-01-P